DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO).

Title: Representative and Address Provisions.

Form Number(s): PTO/SB/80/81/83/84/122/123/124/125 and PTO-2248.

Agency Approval Number: 0651-0035.

Type of Request: Revision of a currently approved collection.

Burden: 33,357 hours annually.

Number of Respondents: 568,902 responses per year.

Avg. Hours per Response: The USPTO estimates that it will take the public approximately 3 minutes (0.05 hours) to 1.5 hours to submit the information in this collection, including the time to gather the necessary information, prepare the appropriate form or document, and submit the completed request.

Needs and Uses: Under 35 U.S.C. 2 and 37 CFR 1.31-1.36, this information collection is used by the public to grant or revoke power of attorney in a patent application, to withdraw as attorney or agent of record, to authorize a practitioner to act in a representative capacity, to change the correspondence address for one or more applications or patents, to request a Customer Number, to designate or change the correspondence address or list of practitioners associated with a Customer Number, and to associate a patent application with a Customer Number. The USPTO's Customer Number practice permits authorized individuals to change the correspondence address or representatives of record for a number of applications or patents with one change request instead of filing separate requests for each application or patent. The USPTO uses the information in this collection to determine who is authorized to take action in an application or patent on behalf of the applicant or assignee and where to send correspondence regarding an application or patent.

The USPTO is revising the Power of Attorney and Correspondence Address Indication Form (PTO/SB/81) to include revocations of power of attorney and to eliminate the need for the separate form Revocation of Power of Attorney With New Power of Attorney and Change of Correspondence Address (PTO/SB/82). Consequently, Form PTO/SB/81 will be renamed “Power of Attorney or Revocation of Power of Attorney With a New Power of Attorney and Change of Correspondence Address” and Form PTO/SB/82 will be deleted from this collection. The USPTO is revising another form in this collection, Request for Withdrawal as Attorney or Agent and Change of Correspondence Address (PTO/SB/83), to allow the practitioner requesting withdrawal to certify that proper notice has been given to the client and that all papers and property to which the client is entitled have been delivered.

The USPTO is deleting two additional items from this collection. The electronic power of attorney forms that were previously included in this collection are being deleted due to the retirement of the USPTO's previous electronic filing system (EFS) software in favor of a new Web-based online submission system (EFS-Web). The Customer Number Upload Spreadsheet for PCT Applications is being deleted from this collection because it is no longer in use. Applicants seeking to associate an established PCT application with an existing Customer Number may submit a Request to Update a PCT Application With a Customer Number (PTO-2248).

Affected Public: Individuals or households, businesses or other for-profits, and not-for-profit institutions.

Frequency: On occasion.

Respondent's Obligation: Required to obtain or retain benefits.

OMB Desk Officer: David Rostker, (202) 395-3897.

Copies of the above information collection proposal can be obtained by any of the following methods:

• E-mail: Susan.Fawcett@uspto.gov. Include “0651-0035 copy request” in the subject line of the message.

• Fax: 571-273-0112, marked to the attention of Susan Fawcett.

• Mail: Susan K. Fawcett, Records Officer, Office of the Chief Information Officer, Customer Information Services Group, Public Information Services Division, United States Patent and Trademark Office, P.O. Box 1450, Alexandria, VA 22313-1450.

Written comments and recommendations for the proposed information collection should be sent on or before October 8, 2008 to David Rostker, OMB Desk Officer, Room 10202, New Executive Office Building, 725 17th Street, NW., Washington, DC 20503.

Dated: August 29, 2008.
Susan K. Fawcett,
Records Officer, USPTO, Office of the Chief Information Officer, Customer Information Services Group, Public Information Services Division.

[FR Doc. E8-20695 Filed 9-5-08; 8:45 am]

BILLING CODE 3510-16-P